DEPARTMENT OF COMMERCE

Economics and Statistics Administration

Commerce Data Advisory Council

AGENCY: Economic and Statistics Administration, Department of Commerce.

ACTION: Notice of public meeting.

SUMMARY: The Economic and Statistics Administration (ESA) is giving notice of virtual meetings to be held by the following Commerce Data Advisory Council (CDAC) Working Groups (WG): Data Governance, Data Usability, and Commerce Data Advisory Council (CDAC). Each CDAC WG will hold a separate meeting, through virtual means, to discuss perspective WG matters. Agendas for each CDAC WG meeting will be posted the ESA.gov Web site at: http://esa.gov/content/upcoming-past-meetings. Each CDAC WG will meet for approximately two hours for discussion on January 14, 2016. Last-minute changes to the schedule are possible, which could prevent giving advance public notice of schedule adjustments.

DATES: January 14, 2016. Each CDAC WG's meeting time and agenda will be posted to the ESA.gov Web site three days prior to the meeting.

ADDRESSES: Meeting access information will be posted the esa.gov Web site at: http://esa.gov/content/upcoming-past-meetings.

FOR FURTHER INFORMATION CONTACT: Burton Reist, BReist@doc.gov Director of External Communication and DFO, CDAC, Department of Commerce, Economics and Statistics Administration, 1401 Constitution Ave. NW., Washington, DC 20230, telephone (202) 482-3331.

SUPPLEMENTARY INFORMATION: Charters for each CDAC WG is available on the ESA.gov Web site at: http://esa.gov/content/federal-advisory-committee-documentation. The CDAC comprises as many as 20 members. The Council provides an organized and continuing channel of communication between recognized experts in the data industry (collection, compilation, analysis, dissemination and privacy protection) and the Department of Commerce. The CDAC provides advice and recommendations, to include process and infrastructure improvements, to the Secretary, DOC and the DOC data-bureau leadership on ways to make Commerce data easier to find, access, use, combine and disseminate. The aim of this advice shall be to maximize the value of Commerce data to all users including governments, businesses, communities, academia, and individuals.

The Committee is established in accordance with the Federal Advisory Committee Act (Title 5, United States Code, Appendix 2, Section 10(a)(b)).

All meetings are open to the public. Individuals questions or statements must submit them in writing to: DataAdvisoryCouncil@doc.gov (subject line “January 2016 CDAC Working Group Meeting Public Comment”), or by letter submission to the Director of External Communication and DFO, CDAC, Department of Commerce, Economics and Statistics Administration, 1401 Constitution Ave. NW., Washington, DC 20230. Such submissions will be included in the record for the meeting if received by Monday, January 11, 2016.

Dated: December 29, 2015.
Burton Reist,
Director for External Affairs, Economics and Statistics Administration.

[FR Doc. 2015-33154 Filed 12-30-15; 4:15 pm]

BILLING CODE P